DEPARTMENT OF COMMERCE

National Oceanic and Atmospheric Administration

50 CFR Part 660

[Docket No. 200505-0127; RTID 0648-XA261]

Fisheries Off West Coast States; Modifications of the West Coast Commercial Salmon Fisheries; Inseason Action #7

AGENCY: National Marine Fisheries Service (NMFS), National Oceanic and Atmospheric Administration (NOAA), Commerce.

ACTION: Inseason modification of 2020 management measures.

SUMMARY: NMFS announces one inseason action in the 2020 ocean salmon fisheries. This inseason action modified regulations regarding the retention of Pacific halibut caught incidental to the commercial salmon fishery in the area from the U.S./Canada border to the U.S./Mexico border.

DATES: This inseason action became applicable on June 30, 2020, as announced on NMFS' telephone hotline and U.S. Coast Guard broadcast, and remains in effect until superseded or modified.

FOR FURTHER INFORMATION CONTACT: Peggy Mundy at 206-526-4323.

SUPPLEMENTARY INFORMATION:

Background

In the 2020 annual management measures for ocean salmon fisheries (85 FR 27317, May 8, 2020), NMFS announced management measures for the commercial and recreational fisheries in the area from Cape Falcon, OR, to the U.S./Mexico border, effective from 0001 hours Pacific Daylight Time (PDT), May 6, 2020, until the effective date of the 2021 management measures, as published in the Federal Register. NMFS is authorized to implement inseason management actions to modify fishing seasons and quotas as necessary to provide fishing opportunity while meeting management objectives for the affected species (50 CFR 660.409). Inseason actions in the salmon fishery may be taken directly by NMFS (50 CFR 660.409(a)—Fixed inseason management provisions) or upon consultation with the Pacific Fishery Management Council (Council) and the appropriate State Directors (50 CFR 660.409(b)—Flexible inseason management provisions). The state management agencies that participated in the consultation described in this document were: The Washington Department of Fish and Wildlife (WDFW), the Oregon Department of Fish and Wildlife (ODFW), and the California Department of Fish and Wildlife (CDFW).

Inseason Action

Inseason Action #7

Description of the action: Inseason action #7 extended retention of Pacific halibut caught incidental to the commercial salmon fishery past the June 30, 2020 end date set preseason.

Effective dates: Inseason action #7 took effect on June 30, 2020, and remains in effect until modified by further inseason action.

Reason and authorization for the action: The 2020 salmon management measures (85 FR 27317, May 8, 2020) authorize the retention of Pacific halibut caught incidental to the commercial salmon fishery in 2020 during April, May, and June, and after June 30, 2020, if quota remains and announced on the NMFS telephone hotline for salmon fisheries. The 2020 incidental Pacific halibut quota for the commercial salmon fishery is 44,899 pounds (20,366 kg) (weighed head off). Landings reported by the states, through June 17, 2020, totaled 3,566 pounds (1,618 kg) (weighed head off), leaving 92.1 percent of the quota unharvested. The NMFS West Coast Regional Administrator (RA) considered the landed catch of Pacific halibut to date, the amount of quota remaining, and the timing of the action relative to the length of the commercial salmon season, and determined that this inseason action was necessary to meet management goals set preseason. Inseason modification of the species that may be caught and landed during specific seasons is authorized by 50 CFR 660.409(b)(1)(ii).

Consultation date and participants: Consultation under 50 CFR 660.409(b) on inseason action #7 occurred on June 24, 2020. Representatives from NMFS, WDFW, ODFW, CDFW, and the Council participated in this consultation.

All other restrictions and regulations remain in effect as announced for the 2020 ocean salmon fisheries (85 FR 27317, May 8, 2020) and as modified by previous inseason action (85 FR 31707, May 27, 2020).

The RA determined that this inseason action, recommended by the state of Washington, was warranted based on the best available information on Pacific halibut landings to date and remaining Pacific halibut quota. The states manage the fisheries in state waters adjacent to the areas of the U.S. exclusive economic zone consistent with these Federal actions. As provided by the inseason notice procedures of 50 CFR 660.411, actual notice of the described regulatory action was given, prior to the time the action was effective, by telephone hotline numbers 206-526-6667 and 800-662-9825, and by U.S. Coast Guard Notice to Mariners broadcasts on Channel 16 VHF-FM and 2182 kHz.

Classification

NMFS issues this action pursuant to section 305(d) of the Magnuson-Stevens Act. This action is authorized by 50 CFR 660.409, which was issued pursuant to section 304(b), and is exempt from review under Executive Order 12866.

Pursuant to 5 U.S.C. 553(b)(B), there is good cause to waive prior notice and an opportunity for public comment on this action, as notice and comment would be impracticable and contrary to the public interest. Prior notice and opportunity for public comment was impracticable because NMFS had insufficient time to provide for prior notice and the opportunity for public comment between the time halibut landing data were available to inform the decision to extend Pacific halibut retention and the June 30, 2020 closure established preseason. As previously noted, actual notice of the regulatory action was provided to fishers through telephone hotline and radio notification. This action complies with the requirements of the annual management measures for ocean salmon fisheries (85 FR 27317, May 8, 2020), the Pacific Coast Salmon Fishery Management Plan (FMP), and regulations implementing the FMP under 50 CFR 660.409 and 660.411.

There is good cause under 5 U.S.C. 553(d)(3) to waive the 30-day delay in effective date, as a delay in effectiveness of this action would prevent the fishery from accessing available Pacific halibut quota.

Authority: 16 U.S.C. 1801 et seq.

Dated: September 4, 2020.
Jennifer M. Wallace,
Acting Director, Office of Sustainable Fisheries, National Marine Fisheries Service.

[FR Doc. 2020-19996 Filed 9-9-20; 8:45 am]

BILLING CODE 3510-22-P